DEPARTMENT OF ENERGY

Federal Energy Regulatory Commission

[Docket No. AD24-7-000]

Federal and State Current Issues Collaborative; Notice of Meeting and Agenda

As first announced in the Commission's June 23, 2025 Notice in the above-captioned docket,¹ the second public meeting of the Federal and State Current Issues Collaborative (Collaborative) will be held on July 27, 2025, from approximately 9:30 am-12:00 pm EDT, at the Omni Boston Hotel at the Seaport in Boston, Massachusetts. Commissioners may attend and participate in this meeting. Attached to this Notice is the agenda for the meeting.

¹ Fed. and State Current Issues Collaborative, Notice, Docket No. AD24-7-000 (issued June 23, 2025).

The purpose of this meeting is to discuss generic issues related to the states' role in Regional Transmission Organization (RTO) governance, including on resource adequacy issues. Commissioners do not intend to discuss at this meeting any specific proceeding before the Commission, including proceedings that involve similar issues. These proceedings include, but are not limited to:

California Independent System Operator Corp. | Docket No. ER24-2671-001.
Meeting the Challenge of Resource Adequacy in Regional Transmission Organization and Independent System Operator Regions | Docket No. AD25-7-000.
Midcontinent Independent System Operator, Inc | Docket No. ER25-2247-000.
Midcontinent Independent System Operator, Inc | Docket No. ER25-2298-000.
Midcontinent Independent System Operator, Inc | Docket No. ER25-2454-000.
PJM Interconnection, LLC | Docket Nos. ER24-1790-000 et al.b; ER24-1787-000 et al.
PJM Interconnection, LLC | Docket No. EL25-76-000.
PJM Interconnection, LLC | Docket No. ER25-682-000.
PJM Interconnection, LLC | Docket No. ER25-785-002.
PJM Interconnection, LLC | Docket No. ER25-712-001.
PJM Interconnection, LLC | Docket Nos. ER24-148-000; EL25-18-000.
Southwest Power Pool, Inc | Docket Nos. ER25-2296-000; ER25-2297-000.
Southwest Power Pool, Inc | Docket No. ER25-89-000.

The meeting will be open to the public for listening and observing and will be on the record. There is no fee for attendance and registration is not required. The public may attend in person or via Webcast.² This meeting will be transcribed. Transcripts will be available for a fee from Ace Reporting, 202-347-3700.

² A link to the Webcast will be available here on the day of the event: https://www.ferc.gov/federal-state-current-issues-collaborative.

Commission meetings are accessible under section 508 of the Rehabilitation Act of 1973. For accessibility accommodations, please send an email to accessibility@ferc.gov or call toll free 1-866-208-3372 (voice) or 202-208-8659 (TTY), or send a fax to 202-208-2106 with the required accommodations.

More information about the Collaborative is available here: https://www.ferc.gov/federal-state-current-issues-collaborative. For questions related to the Collaborative, please contact: Robert Thormeyer, 202-502-8694, robert.thormeyer@ferc.gov, CeCe Coffey, 202-502-8040, cecelia.coffey@ferc.gov, or Kimberly Duffley, 202-898-1305, kduffley@naruc.org.

Dated: July 11, 2025.
Carlos D. Clay,
Deputy Secretary.

[FR Doc. 2025-13298 Filed 7-15-25; 8:45 am]

BILLING CODE 6717-01-P